DEPARTMENT OF ENERGY

Federal Energy Regulatory Commission

Combined Notice of Filings #1

Take notice that the Commission received the following electric corporate filings:

Docket Numbers: EC13-106-000.

Applicants: Wapsipinicon Wind Project, LLC.

Description: Application for Approval under Section 203 of the Federal Power Act and Requests for Expedited Consideration and Confidential Treatment of Wapsipinicon Wind Project, LLC.

Filed Date: 5/15/13.

Accession Number: 20130515-5084.

Comments Due: 5 p.m. ET 6/5/13.

Take notice that the Commission received the following electric rate filings:

Docket Numbers: ER10-3168-005; ER10-3125-006; ER10-3102-006 ER10-3100-006; ER10-3143-005; ER10-3107-006 ER10-3109-006.

Applicants: ArcLight Energy Marketing, LLC, AL Sandersville, LLC, Effingham County Power, LLC, MPC Generating, LLC, Sabine Cogen, LP, Walton County Power, LLC, Washington County Power, LLC.

Description: Notice of Non-Material Change in Status of ArcLight Energy Marketing, LLC, et al.

Filed Date: 5/15/13.

Accession Number: 20130515-5087.

Comments Due: 5 p.m. ET 6/5/13.

Docket Numbers: ER11-2780-013.

Applicants: Safe Harbor Water Power Corporation.

Description: Safe Harbor Water Power Corporation Notice of Change in Status.

Filed Date: 5/15/13.

Accession Number: 20130515-5083.

Comments Due: 5 p.m. ET 6/5/13.

Docket Numbers: ER13-1017-000.

Applicants: Consumers Energy Company, CMS Energy Resource Management Company.

Description: Consumers Energy Company and CMS Energy Resource Management Company's Amendment to March 1, 2013 Application of the for Waiver of Affiliate Restrictions Related to the 2016 Planning Year Auction for Capacity.

Filed Date: 5/14/13.

Accession Number: 20130514-5141.

Comments Due: 5 p.m. ET 5/28/13.

Docket Numbers: ER13-1258-002.

Applicants: Land O'Lakes, Inc.

Description: Inquiry Response to be effective 6/14/2013.

Filed Date: 5/15/13.

Accession Number: 20130515-5000.

Comments Due: 5 p.m. ET 6/5/13.

Docket Numbers: ER13-1378-002.

Applicants: Southwest Power Pool, Inc.

Description: Amendment—Docket ER13-1378—City of Coffeyville. Stated Rate to be effective 7/1/2013.

Filed Date: 5/15/13.

Accession Number: 20130515-5067.

Comments Due: 5 p.m. ET 6/5/13.

Docket Numbers: ER13-1492-000.

Applicants: Pacific Gas and Electric Company.

Description: Sacramento Municipal Utility District Fringe Area Service Agreement to be effective 7/1/2013.

Filed Date: 5/15/13.

Accession Number: 20130515-5001.

Comments Due: 5 p.m. ET 6/5/13.

Docket Numbers: ER13-1493-000.

Applicants: Public Service Company of New Mexico.

Description: Modification to OATT Section 2.2 to be effective 7/15/2013.

Filed Date: 5/15/13.

Accession Number: 20130515-5058.

Comments Due: 5 p.m. ET 6/5/13.

Docket Numbers: ER13-1494-000.

Applicants: Midcontinent Independent System Operator, Inc.

Description: 05-15-2013 SA 2521 ITC & Tuscola Wind GIA to be effective 5/16/2013.

Filed Date: 5/15/13.

Accession Number: 20130515-5091.

Comments Due: 5 p.m. ET 6/5/13.

Take notice that the Commission received the following electric securities filings:

Docket Numbers: ES13-24-000.

Applicants: Upper Peninsula Power Company.

Description: Application for Authorization to Issue Securities Under Section 204 of the Federal Power Act of Upper Peninsula Power Company.

Filed Date: 5/15/13.

Accession Number: 20130515-5102.

Comments Due: 5 p.m. ET 6/5/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 15, 2013.
Nathaniel J. Davis, Sr.,
Deputy Secretary.

[FR Doc. 2013-12138 Filed 5-21-13; 8:45 am]

BILLING CODE 6717-01-P